FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: CSEPP Program Evaluation and Customer Satisfaction Baseline Survey.

Type of Information Collection: New Collection.

OMB Number: New.

Abstract: Consistent with a performance-based management approach required by GPRA, CSEPP will collect data from federal, state, and local governments to measure program effectiveness and establish a quantitative baseline for customer satisfaction with existing products and services. Findings from the data will be used to set performance goals and customer service standards, while providing benchmarks for program monitoring and evaluation.

Affected Public: Federal, State, and Local Governments.

Number of Respondents: 555.

Estimated Time per Respondent: 30 minutes.

Estimated Total Annual Burden Hours: 420 hours.

Frequency of Response: Annually.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Program Services Division, Operations Support Directorate, Federal Emergency Management Agency, 500 C Street, SW., Room 316, Washington, DC 20472, telephone number (202) 646-2625 or facsimile number (202) 646-3347, or email muriel.anderson@fema.gov.

Thomas F. Behm,
Acting Director, Program Services Division, Operations Support Directorate.

[FR Doc. 01-17027 Filed 7-6-01; 8:45 am]

BILLING CODE 6718-01-P